NUCLEAR REGULATORY COMMISSION

Notice of Availability of Documents Regarding Spent Fuel Transportation Package Response to the Baltimore Tunnel Fire Scenario

AGENCY: Nuclear Regulatory Commission.

ACTION: Notice of availability.

FOR FURTHER INFORMATION CONTACT: Allen Hansen, Thermal Engineer, Criticality, Shielding and Heat Transfer Section, Spent Fuel Project Office, Office of Nuclear Material Safety and Safeguards, U.S. Nuclear Regulatory Commission, Washington, DC 20005-0001. Telephone: (301) 415-1390; Fax number: (301) 415-8555; E-mail: agh@nrc.gov.

SUPPLEMENTARY INFORMATION:

I. Introduction

Under contract with the Nuclear Regulatory Commission (NRC), The Pacific Northwest National Laboratory prepared a draft NUREG/CR report, “Spent Fuel Transportation Package Response to the Baltimore Tunnel Fire (BTF) Scenario.” This NUREG/CR documents the thermal analyses of three different spent fuel transportation packages exposed to the BTF scenario: TransNuclear TN-68, Holtec HI-STAR 100 and the NAC LWT. Consequence analyses prepared by the Spent Fuel Project Office staff are also included.

The NRC is soliciting public comments on this draft NUREG/CR which will be considered in the final version or subsequent revisions.

II. Summary

The purpose of this notice is to provide the public an opportunity to review and comment on the Draft NUREG/CR thermal analyses, the consequence analyses and the conclusions.

III. Further Information

Documents related to this action are available electronically at the NRC's Electronic Reading Room at http://www.nrc.gov/reading-rm/adams.html. From this site, you can access the NRC's Agencywide Document Access and Management System (ADAMS), which provides text and image files of NRC's public documents. The ADAMS accession numbers for the documents related to this notice are provided in the following table. If you do not have access to ADAMS or if there are problems in accessing the documents located in ADAMS, contact the NRC Public Document Room (PDR) Reference staff at 1-800-397-4209, 301-415-4737, or by e-mail to pdr@nrc.gov.

NUREG/CR Files | ADAMS accession No.
Spent Fuel Transportation Package Response to the Baltimore Tunnel Fire Scenario | ML052500391
Appendix A—Material Properties for COBRA-SFS Model of TN-68 Package | ML052490246
Appendix B—Material Properties for ANSYS Model of HI-STAR 100 Package | ML052490258
Appendix C—Material Properties for ANSYS Model of Legal Weight Truck Package | ML052490264
Appendix D—Blackbody View Factors for COBRA-SFS Model of TN-68 Package | ML052490268
Appendix E—HOLTEC HI-STAR 100 Component Temperature Distributions | ML052490270

These documents may also be viewed electronically on the public computers located at the NRC's PDR, O 1 F21, One White Flint North, 11555 Rockville Pike, Rockville, MD 20852. The PDR reproduction contractor will copy documents for a fee. Comments and questions on the draft NUREG/CR should be directed to the NRC contact listed below by October 31, 2005. Comments received after this date will be considered if it is practical to do so, but assurance of consideration cannot be given to comments received after this date.

Contact: Allen Hansen, Thermal Engineer, Criticality, Shielding and Heat Transfer Section, Spent Fuel Project Office, Office of Nuclear Material Safety and Safeguards, U.S. Nuclear Regulatory Commission, Washington, DC 20005-0001. Telephone: (301) 415-1390; fax number: (301) 415-8555; e-mail: agh@nrc.gov.

Dated at Rockville, Maryland this 9th day of September, 2005.
For the Nuclear Regulatory Commission.
M. Wayne Hodges,
Deputy Technical Review Directorate, Spent Fuel Project Office, Office of Nuclear Material Safety and Safeguards.

[FR Doc. E5-5083 Filed 9-15-05; 8:45 am]

BILLING CODE 7590-01-P